SECURITIES AND EXCHANGE COMMISSION

Sunshine Act; Meeting

Federal Register Citation of Previous Announcement: [71 FR 28892, May 18, 2006]

Status: Closed Meeting.

Place: 100 F Street, NE., Washington, DC.

Date and Time of Previously Announced Meeting: Thursday, May 25, 2006 at 2 p.m.

Change in the Meeting: Additional Item and Time Change.

The Closed Meeting scheduled for Thursday, May 25, 2006 at 2 p.m. has been changed to Thursday, May 25, 2006 at 1 p.m. with the following item being added: Congressional request for non-public documents.

The General Counsel of the Commission, or his designee, has certified that, in his opinion, one or more of the exemptions set forth in 5 U.S.C. 552(b)(c)(2), (6) and (7) and 17 CFR 200.402(a)(2), (6) and (7) permit consideration of the scheduled matter at the Closed Meeting.

Commissioner Atkins, as duty officer, determined that Commission business required the above change and that no earlier notice thereof was possible.

At times, changes in Commission priorities require alterations in the scheduling of meeting items. For further information and to ascertain what, if any, matters have been added, deleted or postponed, please contact the Office of the Secretary at (202) 551-5400.

Dated: May 24, 2006.
Nancy M. Morris,
Secretary.

[FR Doc. 06-4955 Filed 5-25-06; 10:46 am]

BILLING CODE 8010-01-P